DEPARTMENT OF ENERGY

Federal Energy Regulatory Commission

Notice of Commission Staff Attendance

The Federal Energy Regulatory Commission (Commission) hereby gives notice that members of the Commission's staff may attend the following joint stakeholder meeting related to the Joint and Common Market (JCM) initiative of PJM Interconnection, L.L.C. (PJM) and Midwest Independent Transmission System Operator, Inc. (Midwest ISO):

PJM/Midwest ISO JCM

January 29, 2013 (10:00am-3:00pm)

The above-referenced meeting is open to stakeholders and will be held at: The PJM Conference & Training Center, 2750 Monroe Boulevard, Norristown, PA 19403.

For additional information, see: http://www.pjm.com/committees-and-groups/stakeholder-meetings/stakeholder-groups/pjm-miso-joint-common.aspx.

The discussions at the meeting described above may address matters at issue in the following proceedings:

Docket Nos. ER13-195, ER13-198 and ER13-90, PJM Interconnection, L.L.C.

Docket Nos. ER13-186 and ER13-187, Midwest Independent Transmission System Operator, Inc. and the MISO Transmission Owners

Docket No. AD12-16, Capacity Deliverability Across the Midwest Independent Transmission System Operator, Inc./PJM Interconnection, L.L.C. Seam

For more information, contact Jesse Hensley, Office of Energy Market Regulation, Federal Energy Regulatory Commission at (202) 502-6228 or Jesse.Hensley@ferc.gov.

Dated: January 25, 2013.
Kimberly D. Bose,
Secretary.

[FR Doc. 2013-02244 Filed 2-1-13; 8:45 am]

BILLING CODE 6717-01-P